DEPARTMENT OF LABOR

Employment and Training Administration

[NAFTA-5703]

ITT Industries Newton, MA; Notice of Termination of Investigation

Pursuant to Section 221 of the Trade Act of 1974, an investigation was initiated on January 7, 2002, in response to a petition filed by a company official on behalf of workers at ITT Industries, Newton, Massachusetts.

The petitioners submitting the petition have requested that the petition be withdrawn. Consequently, further investigation in this case would serve no purpose, and the investigation has been terminated.

Signed in Washington, DC this 22nd day of February 2002.
Linda G. Poole,
Certifying Officer, Division of Trade Adjustment Assistance.

[FR Doc. 02-5593 Filed 3-7-02; 8:45 am]

BILLING CODE 4510-30-M